DEPARTMENT OF JUSTICE

Antitrust Division

Notice Pursuant to the National Cooperative Research and Production Act of 1993—ODVA, Inc.

Notice is hereby given that, on September 17, 2020, pursuant to Section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, Dover Flexo Electronics, Inc., Rochester, NH, has been added as a party to this venture.

Also, Dalian SeaSky Automation, Co., Ltd., Dalian City, PEOPLE'S REPUBLIC OF CHINA; Ametek HDR Power Systems, Worthington, OH; Balogh T.A.G., Corporation, Brighton, MI; Hohner Corporation, Beamsville, Ontario, CANADA; Leonton Technologies, Co., Ltd., New Taipei City, TAIWAN; SYNTEC TECHNOLOGY CO., LTD., Hsinchu City, TAIWAN; and Atop Technologies, Jubei, Hsinchu, TAIWAN, have withdrawn as parties to this venture.

In addition, Grace Engineered Products, Inc. has changed its name to Grace Technologies, Inc., Davenport, IA; 3S-Smart Software Solutions GmbH to CODESYS GmbH, Kempten, GERMANY; Festo to Festo SE & Co. KG, Esslingen, GERMANY; and LS Industrial Systems to LS ELECTRIC CO., Ltd., Seoul, SOUTH KOREA.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on June 25, 2020. A notice was published in the Federal Register pursuant to Section 6(b) of the Act on July 16, 2020 (85 FR 43260).

Suzanne Morris,
Chief, Premerger and Division Statistics, Antitrust Division.

[FR Doc. 2020-22854 Filed 10-14-20; 8:45 am]

BILLING CODE P